DEPARTMENT OF LABOR

Employment and Training Administration

[TA-W-57,430]

Springs Industries, Inc.; Creative Products Group, Rock Hill, SC; Notice of Revised Determination on Reconsideration

By letter dated August 31, 2005, a company official requested administrative reconsideration of the Department's negative determination for Trade Adjustment Assistance (TAA) and Alternative Trade Adjustment Assistance (ATAA) for workers of the subject facility. Workers produce finished fabrics packaged for home sewing craft stores and are not separately identifiable by product line. The petition is dated June 21, 2005.

The negative determination was based on the finding of no separations, actual or threatened, during the relevant period. The denial was issued on August 1, 2005 and published in the Federal Register on August 26, 2005 (70 FR 50411).

The investigation revealed that the subject facility's employment levels during January through May 2005 increased from January through May 2004 levels, that the subject company's overall sales and production levels increased during January through May 2005 from January through May 2004 levels, and that the subject company's imports of finished fabrics packaged for home sewing craft stores increased during January through May 2005 from January through May 2004 levels.

During the reconsideration investigation, the company official provided corrected information to reflect decreased employment and production levels during the relevant period and increased import levels of finished fabrics packaged for home sewing craft stores during the relevant time period.

The initial investigation also revealed that all criteria for alternative trade adjustment assistance have been met. A significant number or proportion of the worker group are age fifty years or over and workers possess skills that are not easily transferable. Competitive conditions within the industry are adverse.

Conclusion

After careful review of the additional facts obtained on reconsideration, I conclude that increased imports of finished fabrics packaged for home sewing craft stores contributed importantly to worker separations at the subject firm. In accordance with the provisions of the Act, I make the following certification:

• “All workers of Spring Industries, Inc., Creative Products Group, Rock Hill, South Carolina, who became totally or partially separated from employment on or after June 21, 2004, through two years from the date of this certification, are eligible to apply for adjustment assistance under Section 223 of the Trade Act of 1974, and are also eligible to apply for alternative trade adjustment assistance under Section 246 of the Trade Act of 1974.”

Signed in Washington, DC this 27th day of September 2005.
Elliott S. Kushner,
Certifying Officer, Division of Trade Adjustment Assistance.

[FR Doc. E5-5482 Filed 10-5-05; 8:45 am

BILLING CODE 4510-30-P